DEPARTMENT OF HEALTH AND HUMAN SERVICES

National Institutes of Health

National Heart, Lung, and Blood Institute; Notice of Meeting

Notice is hereby given of a change in the meeting of the National Heart, Lung, and Blood Advisory Council Meeting, September 9, 2014, 8:00 a.m. to 5:00 p.m., National Institutes of Health, Building 31, 31 Center Drive, Bethesda, MD 20892, which was published in the Federal Register on July 18, 2014, 79 FR 42024.

This notice is being amended to notify the public of a change in start time of the National Heart, Lung, and Blood Advisory Council Meeting from 12:30 p.m. to 1:00 p.m. on September 9, 2014. This notice is also being amended to indicate a possible change to the start time (8:00 a.m.) of the September 10, 2014 meeting. The meeting start time will be determined at the end of the meeting day on September 9, 2014 and will be announced at the meeting and published on the Council Web site (http://www.nhlbi.nih.gov/about/committees/nhlbac/#agenda).

The meeting is open to the public.

Dated: August 26, 2014.
Michelle Trout,
Program Analyst, Office of Federal Advisory Committee Policy.

[FR Doc. 2014-20716 Filed 8-29-14; 8:45 am]

BILLING CODE 4140-01-P